FEDERAL TRADE COMMISSION

[File No. 002 3308]

ValueVision International, Inc.; Analysis to Aid Public Comment

AGENCY: Federal Trade Commission.

ACTION: Proposed consent agreement.

SUMMARY: The consent agreement in this matter settles alleged violations of federal law prohibiting unfair or deceptive acts or practices or unfair methods of competition. The attached Analysis to Aid Public Comment describes both the allegations in the complaint that accompanies the consent agreement and the terms of the consent order—embodied in the consent agreement—that would settle these allegations.

DATES: Comments must be received on or before August 13, 2001.

ADDRESSES: Comments should be directed to: FTC/Office of the Secretary, Room 159, 600 Pennsylvania Ave., NW., Washington, DC 20580.

FOR FURTHER INFORMATION CONTACT: Daniel Kaufman or Keith Fentonmiller, FTC/S-4002, 600 Pennsylvania Ave., NW., Washington, DC 20580. (202) 326-2675 or 326-2263.

SUPPLEMENTARY INFORMATION: Pursuant to section 6(f) of the Federal Trade Commission Act, 38 Stat. 721, 15 U.S.C. 46 and § 2.34 of the Commission's rules of practice (16 CFR 2.34), notice is hereby given that the above-captioned consent agreement containing a consent order to cease and desist, having been filed with and accepted by the Commission, has been placed on the public record for a period of thirty (30) days. The following Analysis to Aid Public Comment describes the terms of the consent agreement, and the allegations in the complaint. An electronic copy of the full text of the consent agreement package can be obtained from the FTC Home Page (for July 11, 2001), on the World Wide Web, at “http://www.ftc.gov/os/2001/07/index.htm.” A paper copy can be obtained from the FTC Public Reference Room, Room H-130, 600 Pennsylvania Avenue, NW., Washington, DC 20580, either in person or by calling (202) 326-3627.

Public comment is invited. Comments should be directed to: FTC/Office of the Secretary, Room 159, 600 Pennsylvania Ave., NW., Washington, DC 20580. Two paper copies of each comment should be filed, and should be accompanied, if possible, by a 3½ inch diskette containing an electronic copy of the comment. Such comments or views will be considered by the Commission and will be available for inspection and copying at its principal office in accordance with § 4.9(b)(6)(ii) of the Commission's rules of practice (16 CFR 4.9(b)(6)(ii)).

Analysis of Proposed Consent Order To Aid Public Comment

The Federal Trade Commission has accepted, subject to final approval, an agreement containing a consent order from respondent ValueVision International, Inc. (“ValueVision”), which operates a live, 24-hour per day television home shopping network.

The proposed consent order has been placed on the public record for thirty (30) days for receipt of comments by interested persons. Comments received during this period will become part of the public record. After thirty (30) days, the Commission will again review the agreement and the comments received, and will decide whether it should withdraw from the agreement or make final the agreement's proposed order.

This matter involves allegedly misleading representations about two weight-loss products (WeightPerfect Fat Loss Accelerators and Fight the Fat), an internal cleanser (NutriFirm Internal Cleanser), an anti-cellulite lotion (NutriFirm Perfect Body Solution), and a topical anti-hair-loss solution (NutriFirm Vitamin H Serum). It concerns unsubstantiated health, disease, and weight loss claims made on television and in Internet advertising about these products.

According to the FTC complaint, ValueVision made unsubstantiated claims that the WeightPerfect Fat Loss Accelerators: Cause substantial loss in body weight or body fat in one to twelve weeks without exercise or restricting caloric intake; prevent weight gain regardless of exercise or caloric intake; increase the body's metabolic rate and burn calories; suppress the appetite; and cause substantial loss in body weight or body fat while sleeping. The studies relied upon by ValueVision involved subjects who were on restricted calorie diets, and/or exercise programs, and the studies did not involve the specific formulation of WeightPerfect Fat Loss Accelerators.

The complaint also alleges that ValueVision made unsubstantiated claims that Fight the Fat: enables consumers to lose substantial weight without the need for a change in diet or exercise; enables consumers to lose substantial weight even if consumers eat substantial amounts of foods that are high in fat, including steaks, pizza, hamburgers, butter, fried chicken and chocolate; and prevents the human body from absorbing substantial amounts of fat consumed. The studies relied upon by ValueVision involved subjects who were on restricted calorie diets, and the studies did not involve the specific formulation of Fight the Fat.

The complaint also alleges that ValueVision made unsubstantiated claims that NutriFirm Perfect Body Solution substantially reduces or eliminates cellulite; that NutriFirm Internal Cleanser alleviates backaches, muscle aches, headaches, colds, influenza and allergies, and improves impaired memory; and that NutriFirm Vitamin H Serum prevents or reduces hair-loss, including hair-loss in women after pregnancy.

The proposed consent order contains provisions designed to prevent ValueVision from engaging in similar acts and practices in the future. Part I of the proposed order prohibits ValueVision from making any unsubstantiated claim (a claim lacking competent and reliable scientific evidence) that the WeightPerfect Fat Loss Accelerators, Fight the Fat, NutriFirm Perfect Body Solution, or any other food, drug, dietary supplement, or cosmetic: Causes substantial weight loss or fat loss; causes substantial loss in body weight or body fat without exercise or restrictions on caloric intake; prevents weight gain, regardless of exercise or caloric intake; increases metabolic rate or burns calories; reduces or eliminates cellulite; suppresses the appetite; causes substantial loss in body weight or body fat while sleeping; prevents the human body from absorbing fat; or enables consumers to lose weight even if consumers eat foods that are high in fat, including steaks, pizza, hamburgers, butter, fried chicken or chocolate.

Part II of the order prohibits unsubstantiated claims that NutriFirm Internal Cleanser, or any other food, drug, or dietary supplement, alleviates back aches, muscle aches or headaches; alleviates colds, influenza or allergies; or improves impaired memory.

Part III of the order prohibits unsubstantiated claims that NutriFirm Vitamin H Serum, or any other food, drug, dietary supplement or cosmetic, prevents or slows the rate of hair-loss, including hair-loss in women after pregnancy.

Part IV requires ValueVision to have competent and reliable scientific evidence for any claims it makes that any food, drug, dietary supplement, cellulite-treatment product or weight-loss program can or will cure, treat, or prevent disease, or will have any effect on the structure or function of the human body.

Part V of the order contains a consumer redress provision, requiring ValueVision to send a letter to all purchasers of the covered products from ValueVision since February 1, 2000, offering a completed refund for up to three bottles of the product, including shipping and handling charges. ValueVision may choose to offer consumers the choice of a refund or a credit toward the purchase of other ValueVision merchandise. The order, and appendices 1 through 4 thereto, specify the content of the consumer letters and of the envelopes in which the refund offer and refund checks will be sent. Part V also requires ValueVision to provide the Commission with documentation regarding its efforts to provide refunds.

Part VI is a standard safe harbor for FDA-approved drug claims, and Part VII is a standard safe harbor for food or dietary supplement claims authorized under the Nutrition Labeling and Education Act of 1990.

Part VIII through XI of the order require ValueVision to keep copies of relevant advertisements and materials substantiating claims made in the advertisements, to provide copies of the order to certain of its personnel, to notify the Commission of changes in corporate structure, and to file compliance reports with the Commission. Part XII provides that the order will terminate after twenty (20) years under certain circumstances.

The purpose of this analysis is to facilitate public comment on the proposed order, and it is not intended to constitute an official interpretation of the agreement and proposed order or to modify in any way their terms.

By direction of the Commission.
Donald S. Clark,
Secretary.

[FR Doc. 01-17842 Filed 7-16-01; 8:45 am]

BILLING CODE 6750-01-M